DEPARTMENT OF LABOR

Employment and Training Administration

[TA-W-53,597]

Fashion Technologies, Gaffney, SC; Notice of Affirmative Determination Regarding Application for Reconsideration

By application postmarked January 31, 2004, a petitioner requested administrative reconsideration of the Department of Labor's Notice of Negative Determination Regarding Eligibility to Apply for Worker Adjustment Assistance, applicable to workers of the subject firm. The denial notice was signed on December 30, 2003, and published in the Federal Register on February 6, 2004 (69 FR 5866).

The Department reviewed the request and has determined that the petitioner has provided additional information. Therefore, the Department will conduct further investigation to determine if the workers meet the eligibility requirements of the Trade Act of 1974.

Conclusion

After careful review of the application, I conclude that the claim is of sufficient weight to justify reconsideration of the Department of Labor's prior decision. The application is, therefore, granted.

Signed in Washington, DC, this 23rd day of March, 2004.
Linda G. Poole,
Certifying Officer, Division of Trade Adjustment Assistance.

[FR Doc. E4-863 Filed 4-15-04; 8:45 am]

BILLING CODE 4510-13-P